DEPARTMENT OF THE INTERIOR

National Park Service

National Register of Historic Places; Notification of Pending Nominations

Nominations for the following properties being considered for listing in the National Register were received by the National Park Service before October 13, 2001. Pursuant to section 60.13 of 36 CFR Part 60 written comments concerning the significance of these properties under the National Register criteria for evaluation may be forwarded to the National Register, National Park Service, 1849 C St. NW., NC400, Washington, DC 20240. Written comments should be submitted by November 20, 2001.

Paul R. Lusignan,
Acting Keeper of the National Register.

ARKANSAS

Cleveland County

Rison Texaco Service Station, 216 Main St., Rison, 01001243

CALIFORNIA

San Luis Obispo County

Lincoln School, 9000 Chimney Rock Rd., Paso Robles, 01001244

DELAWARE

New Castle County

Ardens Historic District, Address Restricted, Arden, 01001245

FLORIDA

Martin County

Gate House, 214 S. Beach Rd., Jupiter Island, 01001246

Volusia County

Moulton—Wells House, W of Eldora Rd., Canaveral National Seashore, New Smyrna Beach, 01001247

GEORGIA

Muscogee County

Dinglewood Historic District, Bounded by 13th and 16th Ave., 13th St., and Wynnton Rd., Columbus, 01001248

KENTUCKY

Allen County

Turner, J.L. and Son, Building, Old East Main St. at 7th St., Scottsville, 01001253

Hart County

Battle of Munfordville (Boundary Increase), (Munfordville MRA) Mostly W of US 31W near Munforville, Munfordville, 01001254

Jefferson County

Allison—Barrickman House (Boundary Increase), 6909 Wolf Pen Branch Rd., Louisville, 01001250

Saint Francis in the Fields, 6710 Wolf Pen Branch Rd., Harrods Creek, 01001249

Kenton County

Covington Downtown Commercial Historic District (Boundary Increase), Approx. located along Scott, Pine, and E. 8th Sts., Covington, 01001252

McCracken County

Hotel Metropolitan, 724 Jackson St., Paducah, 01001251

LOUISIANA

Rapides Parish

Emmanuel Baptist Church, 430 Jackson St., Alexandria, 01001255

NEW JERSEY

Hudson County

Hudson and Manhattan Railroad Powerhouse, 60-84 Bay St., 344-56 Washington Blvd., Jersey City, 01001256

OHIO

Columbiana County

Hanna—Kenty House, 251 E. High St., Lisbon, 01001257

Cuyahoga County

McFarland, Duncan, House, 35069 Cannon Rd., Bentleyville, 01001258

TENNESSEE

Montgomery County

Golden Hill Cemetery, Seven Mile Ferry Rd., Clarksville, 01001261

Sevier County

Trotter—McMahan Farm (Boundary Increase), 1605 Middle Creek Rd., Sevierville, 01001262

Shelby County

Third Additon to Jackson Terrace Historic District, (Residential Resources of Memphis MPS) Henry Ave., Hardin Ave., Atlantic Ave. and Crump Ave., Memphis, 01001260

Union County

Maynardville State Bank, 1001 Main St., Maynardville, 01001259

Warren County

Spring Street Service Station, 200 N. Spring St., McMinnville, 01001263

TEXAS

Bee County

Rialto Theater, 112-114 N. Washington St., Beeville, 01001265

Garza County

Garza County Courthouse, 300 W. Main St., Post, 01001266

Hunt County

President's House, SW of Circle Dr., N of Stonewall St., bet. Campbell and Bois D'Arc Sts., Commerce, 01001264

A request for REMOVAL has been made for the following Resource:

TENNESSEE

Frentress County

Allardt Presbyterian Church, (Frentress County) MPS TN 52 Allardt, 91000818

[FR Doc. 01-27697 Filed 11-2-01; 8:45 am]

BILLING CODE 4310-70-P